DEPARTMENT OF COMMERCE

National Oceanic and Atmospheric Administration

50 CFR Part 635

RIN 0648-BA65

Atlantic Highly Migratory Species; Atlantic Bluefin Tuna Quotas and Atlantic Tuna Fisheries Management Measures

AGENCY: National Marine Fisheries Service (NMFS), National Oceanic and Atmospheric Administration (NOAA), Commerce.

ACTION: Notification of public hearing.

SUMMARY: On March 14, 2011, NMFS published a proposed rule to modify Atlantic bluefin tuna (BFT) base quotas for all domestic fishing categories; establish BFT quota specifications for the 2011 fishing year; reinstate pelagic longline target catch requirements for retaining BFT in the Northeast Distant Gear Restricted Area (NED); amend the Atlantic tunas possession at sea and landing regulations to allow removal of Atlantic tunas tail lobes; and clarify the transfer at sea regulations for Atlantic tunas. This action was necessary to implement recommendations of the International Commission for the Conservation of Atlantic Tunas (ICCAT), as required by the Atlantic Tunas Convention Act (ATCA), and to achieve domestic management objectives under the Magnuson-Stevens Fishery Conservation and Management Act (Magnuson-Stevens Act). On March 21, 2011, NMFS published a correction notice that extended the comment period for this action until April 28, 2011, allowing a 45-day comment period, rescheduled the Gloucester, MA, public hearing that was originally scheduled for March 21, 2011, to April 1, 2011, and announced that additional public hearings would be scheduled in a future notice. In this document NMFS is announcing additional public hearings in Fairhaven, MA, and Portland, ME, in order to provide greater opportunity for public comment on the proposed rule.

DATES: A hearing will be held on April 25, 2011, from 6 to 9 p.m. in Portland, ME, and a hearing will be held on April 26, 2011, from 6 to 9 p.m. in Fairhaven, MA. Public comments on the proposed rule must be received on or before April 28, 2011. See SUPPLEMENTARY INFORMATION for further details.

ADDRESSES: As published on March 14, 2011 (76 FR 13583), you may submit comments, identified by “0648-BA65”, by any one of the following methods:

• Electronic Submissions: Submit all electronic public comments via the Federal eRulemaking Portal at http://www.regulations.gov.

• Fax: 978-281-9340, Attn: Sarah McLaughlin.

• Mail: Sarah McLaughlin, Highly Migratory Species Management Division, Office of Sustainable Fisheries (F/SF1), NMFS, 55 Great Republic Drive, Gloucester, MA 01930

• Instructions: All comments received are a part of the public record and will generally be posted to http://www.regulations.gov without change. All Personal Identifying Information (for example, name, address, etc.) voluntarily submitted by the commenter may be publicly accessible. Do not submit Confidential Business Information or otherwise sensitive or protected information. NMFS will accept anonymous comments (enter N/A in the required fields, if you wish to remain anonymous). You may submit attachments to electronic comments in Microsoft Word, Excel, WordPerfect, or Adobe PDF file formats only. To be considered, electronic comments must be submitted via the Federal eRulemaking Portal http://www.regulations.gov. Do not submit electronic comments to individual NMFS staff.

Supporting documents, including the draft Environmental Assessment, Regulatory Impact Review, and Initial Regulatory Flexibility Analysis, are available by sending your request to Sarah McLaughlin at the mailing address specified above. These documents and others, such as the Fishery Management Plans described below, also may be downloaded from the HMS Web site at http://www.nmfs.noaa.gov/sfa/hms/.

The additional public hearing locations are:

1. Portland, ME—Holiday Inn by the Bay, 88 Spring St., Portland, ME 04101.

2. Fairhaven, MA—Seaport Inn and Marina, 110 Middle Street, Fairhaven, MA 02719.

FOR FURTHER INFORMATION CONTACT: Sarah McLaughlin or Brad McHale, 978-281-9260.

SUPPLEMENTARY INFORMATION: Atlantic bluefin tuna, bigeye tuna, albacore tuna, yellowfin tuna, and skipjack tuna (hereafter referred to as “Atlantic tunas”) are managed under the dual authority of the Magnuson-Stevens Act and ATCA. ATCA authorizes the Secretary of Commerce (Secretary) to promulgate regulations, as may be necessary and appropriate, to implement ICCAT recommendations. The authority to issue regulations under the Magnuson-Stevens Act and ATCA has been delegated from the Secretary to the Assistant Administrator for Fisheries, NOAA (AA).

In the proposed rule, NMFS announced four public hearings. NMFS has received several comments requesting additional public hearings. NMFS has determined that it is reasonable to conduct additional public hearings to provide greater opportunities for public comment and is conducting additional hearings in Fairhaven, MA, and Portland, ME. These hearings will allow NMFS to collect additional public comments on the proposed rule, which will assist NMFS in determining final management measures to conserve and manage the Atlantic tunas fisheries, consistent with the 2006 Consolidated HMS FMP, the Magnuson-Stevens Act, ATCA, and other applicable law.

Dated: March 29, 2011.
Emily H. Menashes,
Acting Director, Office of Sustainable Fisheries, National Marine Fisheries Service.

[FR Doc. 2011-7947 Filed 4-1-11; 8:45 am]

BILLING CODE 3510-22-P